Title 3—

The President

Proclamation 9003 of August 23, 2013

Women's Equality Day, 2013

By the President of the United States of America

A Proclamation

On August 26, 1920, after decades of organizing, agitating, and demonstrating, our country achieved a major victory for women's rights and American democracy. The 19th Amendment was certified, extending the vote to women and advancing our Nation's long journey toward full equality for all Americans. The ratification of the 19th Amendment paved the way for more women to participate in American politics—as leaders, candidates, voters, and volunteers. Today, women make up the majority of the electorate, and last year a record number of women were elected to the United States Congress. On Women's Equality Day, we celebrate the progress that has been made, and renew our commitment to securing equal rights, freedoms, and opportunities for women everywhere.

From the beginning, my Administration has been committed to advancing the historic march toward gender equality. We have fought for equal pay, prohibited gender discrimination in America's healthcare system, and established the White House Council on Women and Girls, which works to ensure fair treatment in all matters of public policy. In March, I signed a reauthorization of the Violence Against Women Act, which provides better tools to law enforcement to reduce domestic and sexual violence, strengthens support systems, and extends protections to even more women. And earlier this year, the Department of Defense announced plans to remove roadblocks that prevent women from serving the country they love at the highest levels their extraordinary valor and talent will take them.

Yet we have more work to do. A fair deal for women is essential to a thriving middle class, but while women graduate college at higher rates than men, they still make less money after graduation and often have fewer opportunities to enter well-paid occupations or receive promotions. On average, women are paid 77 cents for every dollar paid to men. That is why the first bill I signed was the Lilly Ledbetter Fair Pay Act. It is also why I established the National Equal Pay Task Force, which is cracking down on equal pay violations at a record rate. And it is why I issued a Presidential Memorandum calling for a Government-wide strategy to close any gender pay gap within the Federal workforce. To build on this work, I will continue to urge the Congress to pass the Paycheck Fairness Act, a bill that would strengthen the Equal Pay Act and give women more tools to challenge unequal wages. My Administration will also continue our campaign to engage women and girls in science, technology, engineering, and mathematics careers, and we will broaden our efforts to empower women and girls around the world.

As we reflect with pride on decades of progress toward gender equality, we must also resolve to make progress in our time. Today, we honor the pioneers of women's equality by doing our part to realize that great American dream—the dream of a Nation where all things are possible for all people.

NOW, THEREFORE, I, BARACK OBAMA, President of the United States of America, by virtue of the authority vested in me by the Constitution and the laws of the United States, do hereby proclaim August 26, 2013, as Women's Equality Day. I call upon the people of the United States to celebrate the achievements of women and promote gender equality in our country.

IN WITNESS WHEREOF, I have hereunto set my hand this twenty-third day of August, in the year of our Lord two thousand thirteen, and of the Independence of the United States of America the two hundred and thirty-eighth.

[FR Doc. 2013-21188

Filed 8-27-13; 11:15 am]

Billing code 3295-F3